DEPARTMENT OF THE INTERIOR

Fish and Wildlife Service

Draft Revised Recovery Plan for Hawaiian Forest Birds

AGENCY: U.S. Fish and Wildlife Service, Interior.

ACTION: Notice of document availability.

SUMMARY: The U.S. Fish and Wildlife Service (“we”) announce the availability for public review and comment, the Draft Revised Recovery Plan for Hawaiian Forest Birds. There are 21 bird taxa included in this plan, 19 are listed as endangered, 1 is a candidate species for Federal listing, and 1 is a species of concern. These taxa are from four bird families, with the majority being Hawaiian Honeycreepers (subfamily Drepanidinae within Fringillidae). This is a new recovery plan for two of the listed birds.

DATES: Comments on the draft recovery plan received by December 15, 2003, will receive our consideration.

ADDRESSES: The document is available online at http://www.rl.fws.gov/ecoservices/endangered/recovery/default.htm. Copies of the draft revised recovery plan are available for inspection, by appointment, during normal business hours at the following location: U.S. Fish and Wildlife Service, Pacific Islands Fish and Wildlife Office, 300 Ala Moana Boulevard, Room 3-122, P.O. Box 50088, Honolulu, Hawaii 96850 (phone: 808/541-3441) and Hawaii State Library, 478 S. King Street, Honolulu, Hawaii 96813. Requests for copies of the draft revised recovery plan and written comments and materials regarding this plan should be addressed to Paul Henson, Field Supervisor, Ecological Services, at the above U.S. Fish and Wildlife Service Honolulu address.

FOR FURTHER INFORMATION CONTACT: Jay Nelson, Fish and Wildlife Biologist, at the above Honolulu address.

SUPPLEMENTARY INFORMATION:

Background

Recovery of endangered or threatened animals and plants is a primary goal of our endangered species program and the Endangered Species Act (Act) (16 U.S.C. 1531 et seq. Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during a public comment period prior to approval of each new or revised recovery plan. We, along with other Federal agencies, will also take these comments into account in the course of implementing approved recovery plans. Individual responses to comments will not be provided.

This Draft Revised Recovery Plan for Hawaiian Forest Birds addresses 21 bird taxa. Three taxa are endemic to the island of Hawai'i, four taxa are endemic to the island of Maui, one taxon is endemic to the island of Moloka'i, two taxa are endemic to the island of O'ahu, and six taxa are endemic to the island of Kaua'i. Two taxa are endemic to all the major islands of Hawai'i, two taxa are endemic to the islands of Maui and Moloka'i, and one taxon is endemic to the islands of Moloka'i and Lā'i. The birds federally listed as endangered are: Maui nuku pu'u (Hemignatus lucidus affinus); Kaua'i nuku pu'u (Hemignathus lucidus hanapepe); Kaua‘i ‘akialoa (Hemignathus procerus); 'ō'ō'ā'ā or Kaua'ī'ō'ō Moho braccatus); oloma'o or Moloka'i thrush (Myadestes lanaiensis rutha); kāma'o or large Kaua'i thrush (Myadestes myadestinus); kākāwahie or Moloka'i creeper (Paroreomyza flammea); O'ahu 'ālauahio or O'ahu creeper (Paroreomyza maculata); Maui 'ākepa (Loxops coccineus ochraceus); 'ō'ū (Psittirostra psittacea); po'ouli (Melamprosops phaeosoma); puaiohi or small Kaua'i thrush (Myadestes palmeri); Maui parrotbill (Pseudonesor xanthophrys); 'akia pōlā'au (Hemignathus munroi); palila (Loxioides bailleui); 'ā kohekohe or crested honeycreeper (Palmeria dolei); O'ahu 'elepaio (Chasiempis sandwichensis ibidis); Hawai'i 'ā kepa (Loxops coccineus coccineus); and Hawai'i creeper (Oreomystis mana). The candidate species is the Kaua'i creeper (Oreomystis bairdi), and the species of concern is the Bishop's 'ō'ō (Moho bishopi).

Most taxa are now found only in upper elevation rain forests on the islands of Hawai'i, Maui, and Kaua'i. The palila is limited to dryland forests on Mauna Kea volcano on the island of Hawai'i. The O'ahu 'elepaio occurs at elevations as low as 100 meters (330 feet) in non-native forests on the island of O'ahu. Sub-fossil records and observations by early naturalists to the Hawaiian islands indicate that most of the species included in this plan once occurred at lower elevations. These taxa and their habitats have been variously affected or are currently threatened by one or more of the following: habitat degradation by wild, feral, or domestic animals (pigs, goats, and deer); predation by animals (rats, cats, and mongoose); avian disease (malaria and avian pox); and habitat loss due to agriculture, ranching, forest cutting, and urbanization. Threats also include the expansion of invasive non-native plant species into native-dominated plant communities. In addition, due to the small number of existing individuals and their very narrow distribution, these taxa and most of their populations are subject to an increased likelihood of extinction from naturally-occurring events such as hurricanes.

The objective of this plan is to provide a framework for the recovery of these 21 taxa so that their protection by the Act is no longer necessary. Recovery will require protecting and managing forest bird habitat to maintain and enhance viable populations of endangered Hawaiian forest birds. Recovery actions include: measures to protect habitat where the taxa occur; restoration of degraded habitat; removal of feral ungulates from habitat areas; control of introduced rodents and feral cats that feed on forest birds; control of invasive plant species; reduction in numbers of mosquito breeding sites; captive propagation and translocation; and the development of means to address threats of avian disease. Management emphasis may differ among species, as taxa are affected differently and to varying degrees by different limiting factors. Habitat management and restoration will encourage the expansion of current populations into unoccupied habitat. However, the establishment of new populations using various translocation and/or captive propagation techniques will be needed in some cases to accelerate population expansion and to establish new populations in suitable habitat.

Recovery objectives for each taxon are to: (1) Restore populations to levels that allow the taxon to persist despite demographic and environmental chance events, and are large enough to allow natural demographic and evolutionary processes to occur; (2) to protect enough habitat to support these population levels; and (3) to identify and remove the threats responsible for a taxon’s endangered status. For all taxa, stabilization is the first (interim) objective. For species that are exceedingly rare (no individuals can currently be located), an interim objective is to first locate remaining individuals. In a few cases, insufficient forest bird habitat remains within a species' historic range to establish a second separate and distinct population, and further opportunities for habitat restoration do not exist. In these situations a species is unlikely to be delisted (by the criteria listed below), and downlisting is considered the interim recovery objective.

The draft revised recovery plan indicates that a taxon may be reclassified from endangered to threatened based on the following criteria apply: (1) The species occurs in two or more viable populations or a viable metapopulation that represent the ecological, morphological, behavioral, and genetic diversity of the species; (2) quantitative surveys show either (a) the number of individuals in each isolated population or in the metapopulation has been stable or increasing for 15 consecutive years, or (b) demographic monitoring exhibits an average intrinsic growth rate (lambda, L) not less than 1.0 over a period of at least 15 consecutive years; and total population size is not expected to decline by more than 20 percent within the next 15 consecutive years for any reason; (3) sufficient habitat is protected and managed to achieve criteria 1 and 2 above; and (4) the major threats that were responsible for the species becoming endangered have been identified and controlled. The draft revised plan indicates delisting a taxon may be considered on the basis of persistence of those criteria for a period of 30 consecutive years.

Public Comments Solicited

We solicit written comments on the draft revised recovery plan described. All comments received by the date specified above will be considered in developing a final revised Hawaiian forest bird recovery plan.

Authority

The authority for this action is section 4(f) of the Endangered Species Act, 16 U.S.C. 1533 (f).

Dated: August 19, 2003.
David J. Wesley,
Deputy Regional Director, Region 1, Fish and Wildlife Service.

[FR Doc. 03-26112 Filed 10-15-03; 8:45 am]

BILLING CODE 4310-55-P